DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 3, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Agricultural Foreign Investment Disclosure Act Report.

OMB Control Number: 0560-0097.

Summary of Collection: The Agricultural Foreign Investment Disclosure Act of 1978 (AFIDA) requires foreign persons to report in a timely manner all held, acquired, or transferred United States agricultural land under penalty of law to the U.S. Department of Agriculture (7 U.S.C. 3501-3508 or Pub. L. 95-460). Collection of AFIDA information was delegated by the Secretary of Agriculture to the Farm Service Agency (FSA). Foreign investors may obtain the FSA-153 form from their local FSA county office or from the FSA internet site to complete the AFIDA Report.

USDA published a 60 day FRN at 90 FR 23026 on May 30, 2025, the agency indicated plans to add new information collection data elements and deploy an electronic web-based FSA 153; however, at this time the agency plan is to deploy the electronic web-based FSA 153 using only the existing information collection.

To the extent USDA plans to move forward with new data elements for this information collection, the agency will seek public notice and comment on any of those new information collection data elements and publish notices in the Federal Register accordingly.

Need and Use of the Information: The AFIDA regulation (7 CFR part 781.1-5) requires foreign investors who buy, sell, or hold a direct or indirect interest in U.S. agricultural land to report their holdings and transactions to FSA. The information collected from AFIDA Reports are used in the preparation of an annual report to Congress.

Description of Respondents: Foreign persons as defined in the AFIDA regulation.

Number of Respondents: 4,350.

Frequency of Responses: When foreign purchases or sales of U.S. agricultural land occur, and when changes occur in the foreign person's address, their representative, their citizenship status, or the use of the land.

Total Burden Hours: 2,088.

Rachelle Ragland-Greene,
Departmental Information Collection Clearance Officer.

[FR Doc. 2025-14685 Filed 8-1-25; 8:45 am]

BILLING CODE 3410-05-P